DEPARTMENT OF HEALTH AND HUMAN SERVICES

Centers for Disease Control and Prevention

[60Day-12-12IN]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call (404) 639-7570 and send comments to Kimberly S. Lane, at CDC, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Developing a Responsive Plan for Building the Capacity of Community Based Organizations (CBOs) to Implement HIV Prevention Services—New—National Center for HIV/AIDS, Viral Hepatitis, STD, and TB Prevention (NCHHSTP), Centers for Disease Control and Prevention (CDC).

Background and Brief Description

The Centers for Disease Control and Prevention (CDC) estimates that over 1 million people in the United States are living with HIV. Each year, approximately 50,000 people in the United States become newly infected. Some groups are disproportionately affected by this epidemic. For example, between 2006 and 2009, there was an almost 50% increase in the number of new HIV infections among young Black men who have sex with men (MSM). In order to address these health disparities, the CDC funded 34 community-based organizations via cooperative agreement PS11-1113 to implement HIV prevention programs targeting young MSM of color and young transgender persons of color.

Building the capacity of community based organizations (CBOs) is a priority to ensure effective and efficient delivery of HIV prevention services. Since the late 1980s, CDC has been working with CBOs to broaden the reach of HIV prevention efforts. Over time, the CDC's program for HIV prevention has grown in size, scope, and complexity, responding to changes in approaches to addressing the epidemic, including the introduction of new guidances; effective behavioral, biomedical, and structural interventions; and public health strategies. The Capacity Building Branch within the Division of HIV/AIDS Prevention (D provides national leadership and support for capacity building assistance (CBA) to help improve the performance of the HIV prevention workforce. One way that it accomplishes this task is by funding CBA providers via cooperative agreement PS09-906 to work with CBOS, health departments, and communities to increase their knowledge, skills, technology, and infrastructure to implement and sustain science-based, culturally appropriate interventions and public health strategies.

CBA providers will conduct face-to-face field visits with the CBOs utilizing a structured organizational needs assessment tool that was developed in collaboration with CDC. This comprehensive tool offers a mixed-methods data collection approach consisting of checklists, close-ended (quantitative) questions, and open-ended (qualitative) questions. CBOs will be asked to complete the tool prior to the field visits in order to maximize time during the visits for discussion and strategic planning.

Findings from this project will be used by the participating CBOs, the CBA providers, and the Capacity Building Branch. By the end of the project, the participating CBOs will have tailored CBA strategic plans that they can use to help sustain their programs across and beyond the life of their five-year cooperative agreements. Based on these plans, the CBA providers (in collaboration with CDC) will be able to better identify and address those needs most reported by CBOs. Finally, the Capacity Building Branch will be able to refine its approach to conceptualizing and providing CBA on a national level in the most cost-effective manner possible.

There is no cost to respondents other than their time. The CBA providers will complete their field visits in one day (8 hours). Eighteen of the participating CBOs are dually funded under both PS11-1113 and PS10-1003; they participated in a similar process under the earlier cooperative agreement. Therefore, they will not need to complete the full tool nor participate in a full-day field visit; the burden will be reduced for these respondents.

Estimated Annualized Burden Hours
Type of respondents | Form name | Number of respondents | Number of responses per respondent | Average Burden per response (in hours) | Total burden (in hours)
CBOs only funded under PS11-1113 | CBO/CBA Needs Assessment | 16 | 1 | 3 | 48
Dually funded CBOs (funded under both PS11-1113 and PS10-1003) | CBO/CBA Needs Assessment | 18 | 1 | 1.5 | 27
Total |  |  |  |  | 75

Kimberly S. Lane,
Deputy Director, Office of Scientific Integrity, Office of the Associate Director for Science, Office of the Director, Centers for Disease Control and Prevention.

[FR Doc. 2012-10324 Filed 4-27-12; 8:45 am]

BILLING CODE 4163-18-P